ENVIRONMENTAL PROTECTION AGENCY

[FRL-7629-1]

Correction: Agreement and Covenant Not To Sue: Union Pacific Railroad Company

AGENCY: Environmental Protection Agency.

ACTION: Correction of notice of Prospective Purchaser Agreement/Agreement and Covenant Not to Sue, Request for Public Comment.

SUMMARY: This document contains a correction to the Notice which was published on Tuesday, February 17, 2004 (69 FR 7480). Language regarding a 15 day public comment period was omitted in the original Federal Register Notice.

This Correction and the original Notice concern a proposed Prospective Purchaser Agreement and Agreement and Covenant Not to Sue (“Agreement”) between the United States, State of Colorado, and the Union Pacific Railroad Company (Union Pacific). Union Pacific desires to acquire a perpetual easement or other property interest across the Broderick Wood Products Site, the Sand Creek Site, the Chemical Sales Site, the Woodbury Chemical Site and the Koppers Site, all Superfund or RCRA sites in or near Denver, Colorado, in order to establish a more direct east-west rail corridor through the north Denver area. In consideration of and exchange for the United States and the State of Colorado's Covenant Not to Sue and Removal of Lien, Union Pacific agrees to pay for or perform the remedy repair and replacement work at the Sites and to reimburse the Environmental Protection Agency and the Colorado Department of Public Health and Environment for their oversight costs incurred in oversight of such work.

DATES: For fifteen (15) days following the date of publication of this document March 17, 2004, the Agency will receive written comments relating to the proposed Agreement.

ADDRESSES: Please send all comments on this document to Richard Sisk, Legal Enforcement Attorney (8ENF-L), U.S. Environmental Protection Agency, 999 18th Street, Suite 300, Denver, CO 80202-2466. The Agency's response to any comments received will be available for public inspection at the Superfund Records Center at the U.S. Environmental Protection Agency, Region VIII, 999 18th Street, Denver, Colorado 80202. The Agreement is subject to final approval after the comment period.

FOR FURTHER INFORMATION CONTACT: Richard Sisk, Legal Enforcement Attorney at the above mentioned address or at (303) 312-6638. Please contact Sharon Abendschan, Enforcement Specialist at (303) 312-6957 for requests for copies of the Agreement and/or repository location(s) where supporting documentation may be found and reviewed.

Dated: February 19, 2004.
Eddie A. Sierra,
Acting Assistant Regional Administrator, Office of Enforcement, Compliance and Environmental Justice, U.S. Environmental Protection Agency, Region VIII.

[FR Doc. 04-4628 Filed 3-1-04; 8:45 am]

BILLING CODE 6560-50-P